DEPARTMENT OF LABOR

Employment and Training Administration

[TA-W-59,306]

Liebert Corporation, Irvine, CA; Notice of Termination of Investigation

Pursuant to Section 221 of the Trade Act of 1974, as amended, an investigation was initiated on May 1, 2006 in response to a worker petition filed by the Employment Development Department of the State of California on behalf of workers at Liebert Corporation, Irvine, California.

The petitioner has requested that the petition be withdrawn. Consequently, the investigation has been terminated.

Signed at Washington, DC, this 9th day of May 2006.
Richard Church,
Certifying Officer, Division of Trade Adjustment Assistance.

[FR Doc. E6-7946 Filed 5-23-06; 8:45 am]

BILLING CODE 4510-30-P